DEPARTMENT OF THE INTERIOR

Bureau of Land Management

[LLOR936000.L14400000.ET0000 FUND: 16XL1109AF; HAG-16-0071 OR17791]

Notice of Application for Extension of Public Land Order No. 4145, as Modified, Correction of Legal Description, and Opportunity for Public Comment and Meeting; West Eagle Meadow Campground; Oregon

AGENCY: Bureau of Land Management, Interior.

ACTION: Notice.

SUMMARY: The United States Forest Service (USFS) has filed an application with the Bureau of Land Management (BLM) requesting that the Secretary of the Interior extend the duration of Public Land Order (PLO) No. 4145, as modified by PLO No. 7322, for an additional 20-year term. PLO No. 4145, as modified by PLO No. 7322, withdrew approximately 32 acres of National Forest System lands in the Wallowa-Whitman National Forest from location and entry under the United States mining laws. The purpose of the proposed extension is to continue to protect the recreational values of the USFS West Eagle Meadow Campground. The withdrawal created by PLO No. 4145, as modified by PLO No. 7322, will expire on April 15, 2018, unless extended. This notice gives the public an opportunity to comment on the application and to request a public meeting. This notice also corrects an error in the legal description.

DATES: Comments and public meeting requests must be received by July 20, 2017.

ADDRESSES: Comments and meeting requests should be sent to the BLM Oregon/Washington State Director, P.O. Box 2965, Portland, OR 97208-2965, Attention: Jacob Childers, OR 936.1. Records related to the application may be examined by contacting Mr. Childers at this address.

FOR FURTHER INFORMATION CONTACT: Jacob Childers, BLM Oregon/Washington State Office, 503-808-6225, or Candice Polisky, USFS Pacific Northwest Region, 503-808-2479. Persons who use a telecommunications device for the deaf (TDD) may call the Federal Relay Service (FRS) at 1-800-877-8339 to contact either of the above individuals. The FRS is available 24 hours a day, 7 days a week. You will receive a reply during normal business hours.

SUPPLEMENTARY INFORMATION: The USFS has filed an application requesting that the Secretary of the Interior extend PLO No. 4145 (32 FR 214 (1967)), as modified by PLO No. 7322 (63 FR 13069 (1998)), for an additional 20-year term, subject to valid existing rights. In order to protect the recreational values of West Eagle Meadow Campground, PLO No. 4145, as modified, withdrew National Forest System lands from location and entry under the United States mining laws, but not from leasing under the mineral leasing laws.

Willamette Meridian

Wallowa-Whitman National Forest

West Eagle Meadow Campground

T. 5 S., R. 43 E.,

PB 43

The area described contains 32 acres in Union County.

The subject land is identical in size, shape, and location to the legal description in PLO No. 7322 (63 FR 13069 (1998)). The original survey, which determined that the area was 20 acres, was incorrect. The difference in acreage, between what is stated in PLO No. 7322 and what is stated here stems from the original survey's use of protraction blocks, which are essentially estimates. Following the initial withdrawal, the land was resurveyed using more advanced technology, and the area was determined to contain 32 acres, not 20 acres. This notice corrects the description to read as listed above.

The USFS would not need to acquire water rights to fulfill the purpose of the requested withdrawal extension.

Records related to the application may be examined by contacting Jacob Childers at the address or phone number listed above.

For a period until July 20, 2017, all persons who wish to submit comments, suggestions, or objections in connection with the proposed withdrawal extension may present their views in writing to the BLM Oregon/Washington State Office, State Director at the address indicated above.

Comments, including names and street addresses of respondents, will be available for public review at the address indicated above during regular business hours. Be advised that your entire comment, including your personal identifying information, may be made publicly available. While you can ask us to withhold your personal identifying information from public review, we cannot guarantee that we will be able to do so.

Notice is hereby given that an opportunity for a public meeting is afforded in connection with this withdrawal extension application. All interested parties who desire a public meeting for the purpose of being heard on the proposed withdrawal extension application must submit a written request to the BLM State Director at the address indicated above by July 20, 2017. Upon determination by the authorized officer that a public meeting will be held, a notice of the time and place will be published in the Federal Register and a local newspaper at least 30 days before the scheduled date of the meeting.

This extension will be processed in accordance with 43 CFR 2310.4.

Leslie A. Frewing,
Acting Chief, Branch of Land, Mineral, and Energy Resources.

[FR Doc. 2017-08012 Filed 4-20-17; 8:45 am]

BILLING CODE 3411-15-P